DEPARTMENT OF TRANSPORTATION

Federal Aviation Administration

Notice of Intent of Waiver With Respect to Land; Dayton-Wright Brothers Airport, Dayton, OH

AGENCY: Federal Aviation Administration (FAA), DOT.

ACTION: Notice.

SUMMARY: The FAA is considering a proposal to change 54.42 acres of airport land from aeronautical use to non-aeronautical use and to authorize the sale of airport property located at Dayton-Wright Brothers Airport, Dayton, OH. The aforementioned land is not needed for aeronautical use. The land is located in the northeast part of the airport, east of Runway 2/20 and south of Austin Boulevard. The property is currently vacant with no current or proposed aeronautical use. The City proposes to sell the land to be developed for light manufacturing or commercial office use.

DATES: Comments must be received on or before September 22, 2023.

ADDRESSES: All requisite and supporting documentation will be made available for review by appointment at the FAA Detroit Airports District Office, Alex Erskine, Program Manager, 11677 South Wayne Road, Suite 107, Romulus, MI 48174. Telephone: (734) 229-2927/Fax: (734)229-2950 and City of Dayton Department of Aviation Offices, 3600 Terminal Drive, Suite 300, Vandalia OH, Mr. Gilbert Turner. Telephone: (937)454-8202.

Written comments on the Sponsor's request may be submitted using any of the following methods:

• Federal eRulemaking Portal: Go to http://www.regulations.gov, and follow the instructions for sending your comments electronically.

• Mail: Alex Erskine, Program Manager, Federal Aviation Administration, Detroit Airports District Office, 11677 South Wayne Road, Suite 107, Romulus, MI 48174, Telephone Number: (734) 229-2927/FAX Number: (734) 229-2950.

• Hand Delivery: Deliver to mail address above between 8 a.m. and 5 p.m. Monday through Friday, excluding Federal holidays.

• Fax: 734-229-2950.

FOR FURTHER INFORMATION CONTACT: Alex Erskine, Program Manager, Federal Aviation Administration, Detroit Airports District Office, 11677 South Wayne Road, Suite 107, Romulus, MI 48174. Telephone Number: (734) 229-2927/FAX Number: (734) 229-2950.

SUPPLEMENTARY INFORMATION: In accordance with section 47107(h) of title 49, United States Code, this notice is required to be published in the Federal Register 30 days before modifying the land-use assurance that requires the property to be used for an aeronautical purpose.

The property is currently vacant with no current or proposed aeronautical use. The land proposed for release and disposal was purchased with the aid of Grant No. ADAP 5-39-0030-05. The City proposes to sell the land to be developed for light manufacturing or commercial office use at Fair Market Value.

The disposition of proceeds from the sale of the airport property will be in accordance with FAA's Policy and Procedures Concerning the Use of Airport Revenue, published in the Federal Register on February 16, 1999 (64 FR 7696).

This notice announces that the FAA is considering the release of the subject airport property at the Dayton-Wright Brothers Airport, Dayton, OH from federal land covenants, subject to a reservation for continuing right of flight as well as restrictions on the released property as required in FAA Order 5190.6B section 22.16. Approval does not constitute a commitment by the FAA to financially assist in the disposal of the subject airport property nor a determination of eligibility for grant-in-aid funding from the FAA.

The Land referred to herein below is situated in the County of Montgomery, State of OHIO, and is described as follows:

Parcel 5

Situate in the Township of Miami, County of Montgomery, State of Ohio and being part of Section 10, Town 2, Range 5 M.R.s., and being more particularly bounded and described as follows:

Starting at a stone at the Southeast corner of Section 10, Town 2, Range 4, M.R.s.;

Thence N 10°17′35″ E along the East line of said Section 10 for a distance of 3462.53 feet to a PK nail in Austin Pike;

Thence S 87°46′35″ W along Austin Pike for a distance of 102.44 feet to the point of beginning;

Thence continuing S 87°46′35″ W along Austin Pike for a distance of 1,370.63 feet to a point;

Thence S 9°38′25″ W for a distance of 18.00 feet to an iron pin in the center line of Austin Pike;

Thence S 88°09′25″ W along the center line of Austin Pike for a distance of 534.31 feet to a Railroad spike at a corner of a tract described as Parcel III in Microfiche 74-23/D06 of the deed records of Montgomery County;

Thence S 9°39′43″ W along the East line of said Parcel III for a distance of 1,090.85 feet to an iron pipe at the Southeast corner of said Parcel III;

Thence N 77°23′50″ W along the South line of said Parcel III for a distance of 732.50 feet to a point in the West line of the East half of Section 10;

Thence S 9°24′19″ W along said half-section line for a distance of 466.41 feet to a point in the Building Restriction Line for Runway 2-20, said line being parallel to and 750 feet, measured perpendicularly, East of the center line of Runway 2-20;

Thence N 27°50′38″ E along said Building Restriction Line for a distance of 399.26 feet to a point in the Building Restriction Line for Runway 9-27, said line being parallel to and 350 feet, measured perpendicularly, South of the center line of Runway 9-27;

Thence S 84°09′22″ E along said Building Restriction Line for a distance of 2,459.89 feet to a point;

Thence N 10°17′35″ E along a line parallel to and 100 feet, measured perpendicularly, West of the East line of Section 10 for a distance of 1,383.49 feet to the point of beginning.

Containing 54.423 acres, more or less.

Issued in Detroit Airports District Office, Romulus, MI, on August 17, 2023.
Stephanie R. Swann,
Deputy Manager, Detroit Airports District Office, FAA, Great Lakes Region.

[FR Doc. 2023-18078 Filed 8-22-23; 8:45 am]

BILLING CODE 4910-13-P